DEPARTMENT OF HOMELAND SECURITY

Coast Guard

33 CFR Part 117

[CGD01-07-136]

Drawbridge Operation Regulations; Kennebec River, Bath and Woolwich, ME

AGENCY: Coast Guard, DHS.

ACTION: Notice of temporary deviation from regulations.

SUMMARY: The Commander, First Coast Guard District, has issued a temporary deviation from the regulation governing the operation of the Carlton Bridge across the Kennebec River at mile 14.0, between Bath and Woolwich, Maine. Under this temporary deviation the Carlton Bridge may remain in the closed position from 6:30 a.m. to 6:30 p.m. for seven days; October 1, 2, 8, 9, 15, 16, and 22, 2007, to facilitate bridge painting operations. Vessels that can pass under the draw without a bridge opening may do so at all times. This deviation is necessary to facilitate bridge painting.

DATES: This deviation is effective from October 1, 2007 through October 22, 2007.

ADDRESSES: Materials referred to in this document are available for inspection or copying at the First Coast Guard District, Bridge Branch Office, 408 Atlantic Avenue, Boston, Massachusetts 02110, between 7 a.m. and 3 p.m., Monday through Friday, except Federal holidays. The telephone number is (617) 223-8364. The First Coast Guard District Bridge Branch Office maintains the public docket for this temporary deviation.

FOR FURTHER INFORMATION CONTACT: John McDonald, Project Officer, First Coast Guard District, at (617) 223-8364.

SUPPLEMENTARY INFORMATION: The Carlton Bridge, across the Kennebec River, mile 14.0, between Bath and Woolwich, Maine, has a vertical clearance in the closed position of 10 feet at mean high water and 16 feet at mean low water. The existing drawbridge operation regulations are listed at 33 CFR 117.525.

The owner of the bridge, Maine Department of Transportation, requested a temporary deviation to facilitate bridge painting operations at the Carlton Bridge.

The bridge painting will be performed on the lift span end sections which requires the lift span to be raised up 6 feet and locked in that position in order to install paint containment, sandblast the metal, and paint the bridge span ends.

This work must be performed before the ambient air temperature becomes too cold for outdoor painting.

Historically, there were thirteen requests to open the Carlton Bridge in September 2006, and eleven requests to open in October 2006. Those totals were for the entire month.

The requested bridge closure dates to complete the bridge painting at the bridge for 2007, will all be on Monday and Tuesday when recreational boating activity is very low.

Under this temporary deviation the Carlton Bridge need not open for the passage of vessel traffic between 6:30 a.m. and 6:30 p.m.; October 1, 2, 8, 9, 15, 16, and 22, 2007. Vessels that can pass under the bridge without a bridge opening may do so at all times.

In accordance with 33 CFR 117.35(e), the bridge must return to its regular operating schedule immediately at the end of the designated time period. This deviation from the operating regulations is authorized under 33 CFR 117.35.

Should the bridge maintenance authorized by this temporary deviation be completed before the end of the effective period published in this notice, the Coast Guard will rescind the remainder of this temporary deviation, and the bridge shall be returned to its normal operation schedule.

Notice of the above action shall be provided to the public in the Local Notice to Mariners and the Federal Register, where practicable.

Dated: September 28, 2007.
Gary Kassof,
Bridge Program Manager, First Coast Guard District.

[FR Doc. 07-4998 Filed 10-4-07; 3:08 pm]

BILLING CODE 4910-15-P